NUCLEAR REGULATORY COMMISSION

[NRC-2020-0194]

Development of NRC's Strategic Plan for Fiscal Years 2022 Through 2026

AGENCY: Nuclear Regulatory Commission.

ACTION: Extension of comment period.

SUMMARY: The U.S. Nuclear Regulatory Commission (NRC) is requesting comments on its update of the NRC's Fiscal Years (FYs) 2022-2026 Strategic Plan. Specifically, the NRC would like input on the agency's strategic goals, actions to realize those goals, and how to address key challenges and external factors as described in the current agency's Strategic Plan, NUREG 1614, Volume 7, “Strategic Plan Fiscal Years 2018-2022.” The information will be used to inform the development of the NRC's FYs 2022-2026 Strategic Plan framework and evidence building and evaluation activities. The public comment period was originally scheduled to close on October 13, 2020. The NRC will extend the public comment period to allow more time for members of the public to develop and submit their comments.

DATES: The due date of comments requested in the document published on September 11, 2020 (85 FR 56275) is extended. Submit comments by November 13, 2020. Comments received after this date will be considered if it is practical to do so, but the Commission is able to ensure consideration only for comments received before this date.

ADDRESSES: You may submit comments by any of the following methods:

• Federal Rulemaking Website: Go to https://www.regulations.gov and search for Docket ID NRC-2020-0194. Address questions about NRC Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Branch.

For additional direction on obtaining information and submitting comments, see “Obtaining Information and Submitting Comments” in the SUPPLEMENTARY INFORMATION section of this document.

FOR FURTHER INFORMATION CONTACT: Carla Roque-Cruz, Office of the Executive Director for Operations, U.S. Nuclear Regulatory Commission, Washington, DC 20555-0001, telephone: 301-415-1455, email: Carla.Roque-Cruz@nrc.gov.

SUPPLEMENTARY INFORMATION:

I. Obtaining Information and Submitting Comments

A. Obtaining Information

Please refer to Docket ID NRC-2020-0194, when contacting the NRC about the information for this action. You may obtain publicly-available information related to this action by any of the following methods:

• Federal Rulemaking Website: Go to https://www.regulations.gov and search for Docket ID NRC-2020-0194.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov.

B. Submitting Comments

Please include Docket ID NRC-2020-0194 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On September 11, 2020, the NRC solicited comments to gather information that will permit the NRC staff to develop the FYs 2022-2026 Strategic Plan framework (85 FR 56275). The Strategic Plan describes how the agency intends to achieve its two strategic goals: (1) Ensure the safe use of radioactive materials, and (2) ensure the secure use of radioactive materials. The plan provides an overview of the NRC's responsibilities and lays out the objectives, strategies, and key activities that will be used to achieve the agency's strategic goals.

The public comment period was originally scheduled to close on October 13, 2020. The NRC received an email from an external stakeholder (ADAMS Accession No. ML20275A405) requesting the comment period for this activity be extended by an additional 30 days to permit adequate stakeholder engagement on this topic. The NRC will extend the public comment period until November 13, 2020 to allow more time for members of the public to develop and submit their comments.

Dated: October 7, 2020.
For the Nuclear Regulatory Commission.
Margaret M. Doane,
Executive Director for Operations.

[FR Doc. 2020-22638 Filed 10-13-20; 8:45 am]

BILLING CODE 7590-01-P